DEPARTMENT OF HOMELAND SECURITY

Federal Emergency Management Agency

44 CFR Part 67

[Docket ID FEMA-2010-0003; Internal Agency Docket No. FEMA-B-1155]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before February 7, 2011.

ADDRESSES: The corresponding preliminary Flood Insurance Rate Map (FIRM) for the proposed BFEs for each community is available for inspection at the community's map repository. The respective addresses are listed in the table below.

You may submit comments, identified by Docket No. FEMA-B-1155, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Gilmer County, Georgia, and Incorporated Areas
Cartecay River | Approximately 0.24 mile upstream of the confluence with Owltown Creek | +1291 | +1290 | Unincorporated Areas of Gilmer County.
| Approximately 1.12 miles upstream of Holt Bridge Road | None | +1519
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Gilmer County
Maps are available for inspection at the Gilmer County Courthouse, 1 Broad Street, Ellijay, GA 30540.
La Porte County, Indiana, and Incorporated Areas
Lake Michigan | Entire shoreline within community | None | +585 | City of Michiana Shores, Unincorporated Areas of La Porte County.
Lake Michigan | Entire shoreline within community | +587 | +585 | Town of Long Beach.
Lake Michigan | Entire shoreline within community | +584 | +585 | City of Michigan City.
Otter Creek | At the confluence with Trail Creek | None | +592 | Town of Pottawattamie Park.
| Approximately 1,000 feet downstream of Karwick Road | None | +598
Trail Creek | At the confluence with Lake Michigan | +584 | +585 | City of Michigan City.
| Approximately 1,100 feet upstream of E Street | +584 | +585
Trail Creek | Approximately 1,100 feet upstream of Liberty Trail Road | None | +591 | Town of Pottawattamie Park.
| At the confluence with Otter Creek | None | +592
White Ditch | Approximately 160 feet downstream of Michiana Drive | None | +604 | City of Michiana Shores, City of Michigan City, Unincorporated Areas of La Porte County.
| Approximately 1,840 feet upstream of Oakdale Drive | None | +607
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Michiana Shores
Maps are available for inspection at City Hall, 601 El Portal South Drive, Michiana Shores, IN 46360.
City of Michigan City
Maps are available for inspection at City Hall, 100 East Michigan Boulevard, Michigan City, IN 46360.
Town of Long Beach
Maps are available for inspection at the Town Hall, 2400 Oriole Trail, Long Beach, IN 46360.
Town of Pottawattamie Park
Maps are available for inspection at the La Porte County Government Complex, 809 State Street, Suite 503A, La Porte, IN 46350.
Unincorporated Areas of La Porte County
Maps are available for inspection at the La Porte County Government Complex, 809 State Street, Suite 503A, La Porte, IN 46350.
Butte County, South Dakota, and Incorporated Areas
Belle Fourche River | Just upstream of U.S. Route 212 | +3012 | +3008 | City of Belle Fourche, Unincorporated Areas of Butte County.
| Approximately 0.7 mile upstream of Fairground Road | +3017 | +3019
Hay Creek | Approximately 500 feet downstream of U.S. Route 85 | +3041 | +3042 | City of Belle Fourche, Unincorporated Areas of Butte County.
| Approximately 0.9 mile downstream of Black Angus Lane | None | +3089
Redwater River | Approximately 1,200 feet downstream of U.S. Route 212 Business | +3018 | +3016 | City of Belle Fourche, Unincorporated Areas of Butte County.
| Approximately 700 feet upstream of U.S. Route 212 Business | +3024 | +3023
Willow Creek | Approximately 0.5 mile downstream of Snoma Street | None | +3022 | City of Belle Fourche, Unincorporated Areas of Butte County.
| Approximately 1,650 feet downstream of West Wood Road | None | +3183
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Belle Fourche
Maps are available for inspection at 511 6th Avenue, Belle Fourche, SD 57717.
Unincorporated Areas of Butte County
Maps are available for inspection at 830 6th Avenue, Belle Fourche, SD 57717.
Custer County, South Dakota, and Incorporated Areas
Battle Creek | Approximately 1.6 miles downstream of Chicago and Northwest Railroad | None | +3262 | Town of Hermosa, Unincorporated Areas of Custer County.
| Approximately 600 feet upstream of Paradise Road | +3390 | +3388
Ferguson Split Flow—Battle Creek | Approximately 0.5 mile downstream of Fairgrounds Place | None | +3260 | Town of Hermosa, Unincorporated Areas of Custer County.
| Approximately 130 feet upstream of Donna Street | +3290 | +3292
Grace Coolidge Creek | Approximately 180 feet downstream of the divergence from Battle Creek | +3345 | +3341 | Unincorporated Areas of Custer County.
| Approximately 3.1 miles upstream of State Highway 36 | None | +3473
Railroad Spill Flow—Battle Creek | Just upstream of the confluence with Battle Creek | None | +3290 | Town of Hermosa, Unincorporated Areas of Custer County.
| Just downstream of the divergence from Battle Creek | None | +3294
South Bank Split Flow—Battle Creek | Approximately 1,200 feet upstream of the confluence with Battle Creek | None | +3310 | Unincorporated Areas of Custer County.
| Approximately 870 feet upstream of Yellow Oak Road | None | +3325
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Town of Hermosa
Maps are available for inspection at 420 Mount Rushmore Road, Custer, SD 57730.
Unincorporated Areas of Custer County
Maps are available for inspection at 420 Mount Rushmore Road, Custer, SD 57730.
Forest County, Wisconsin, and Incorporated Areas
Metonga Lake | Entire Shoreline within community | None | +1599 | Unincorporated Areas of Forest County.
Peshtigo Lake | Entire Shoreline within community | None | +1591 | Unincorporated Areas of Forest County.
Roberts Lake | Entire Shoreline within community | None | +1594 | Unincorporated Areas of Forest County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Forest County
Maps are available for inspection at 200 East Madison Avenue, Crandon, WI 54520.
La Crosse County, Wisconsin, and Incorporated Areas
Black River | Approximately 0.5 mile downstream of the confluence with Davis Creek | None | +694 | Unincorporated Areas of La Crosse County.
| Approximately 3.36 miles upstream of the confluence with Hardies Creek | None | +706
Ebner Coulee Main Channel | Approximately 1,584 feet downstream of 29th Street | None | +659 | City of La Crosse, Unincorporated Areas of La Crosse County.
| Approximately 1,584 feet upstream of 29th Street | None | +697
Ebner Coulee Southeast Bank | Approximately 52.8 feet upstream of 29th Street | None | +665 | City of La Crosse.
| Approximately 528 feet upstream of 29th Street | None | +673
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of La Crosse
Maps are available for inspection at City Hall, 400 La Crosse Street, La Crosse, WI 54601.
Unincorporated Areas of La Crosse County
Maps are available for inspection at 400 4th Street North, La Crosse, WI 54601.

(Catalog of Federal Domestic Assistance No. 97.022, “Flood Insurance.”)

Dated: October 29, 2010.
Sandra K. Knight,
Deputy Federal Insurance and Mitigation Administrator, Mitigation, Department of Homeland Security, Federal Emergency Management Agency.

[FR Doc. 2010-28225 Filed 11-8-10; 8:45 am]

BILLING CODE 9110-12-P